DEPARTMENT OF AGRICULTURE

Farm Service Agency

Dairy Industry Advisory Committee; Public Meeting

AGENCY: Farm Service Agency, USDA.

ACTION: Notice of public meetings.

SUMMARY: As required by the Federal Advisory Committee Act, as amended, the Farm Service Agency (FSA) announces two public meetings of the Dairy Industry Advisory Committee (Dairy Committee) to discuss farm milk price volatility and dairy farmer profitability, review various industry proposals and analysis, and hear public comments. The Dairy Committee is responsible for making recommendations to the Secretary on policy issues impacting the dairy industry. Instructions regarding registering for and attending the meetings are provided in the SUPPLEMENTARY INFORMATION section of this notice.

DATES: Public meetings: The public meetings will be on September 23 and 24, 2010, and October 12 and 13, 2010.

Registration: You must register by September 21, 2010, to attend the September public meeting and by October 8, 2010, to attend the October public meeting.

Comments: Written comments are due by September 24, 2010, for the September meeting and by October 13, 2010, for the October meeting.

ADDRESSES: We invite you to participate in the meetings. The meetings are open to the public. The meetings on September 23 and 24 and October 12 will be held in room 104-A of the USDA Headquarters, Jamie L. Whitten Building at 12th Street, SW., and Jefferson Drive, Washington, DC 20250. The October 13 meeting will be held in room 3074 of the USDA Headquarters South Building at 12th Street and Independence Avenue, Washington, DC 20250. Instructions for registering and attending the meetings are in the SUPPLEMENTARY INFORMATION section of this notice.

You may submit comments by either of the following methods:

• Online: Go to http://www.fsa.usda.gov/DIAC. Follow the online instructions for submitting comments, or

• Orally at the meeting; please also provide a written copy of your comments.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION: In August 2009, USDA established the Dairy Committee. The Dairy Committee reviews issues of farm milk price volatility and dairy farmer profitability. The Dairy Committee provides recommendations to the Secretary on how USDA can best address these issues to meet the dairy industry's needs.

The Secretary of Agriculture selected a diverse group of members representing a broad spectrum of persons interested in providing suggestions and ideas on how USDA can tailor its programs to meet the dairy industry's needs. Equal opportunity practices were considered in all appointments to the Dairy Committee in accordance with USDA policies. The Secretary announced the members on January 6, 2010. Representatives include: Producers and producer organizations, processors and processor organizations, consumers, academia, a retailer, and a state representative.

The Dairy Committee will hold the meetings on the following dates and locations. The meetings are open to the public. The dairy industry and public are invited to provide oral comments at the meetings on September 23 and October 12, 2010, at the time designated on the agenda.

Date | Time | Location
September 23, 2010 | 8:30 a.m.-4 p.m. | USDA headquarters, in the Jamie Whitten Building, Room 104-A, 12th Street, SW. and Jefferson Drive, Washington, DC 20250.
September 24, 2010 | 10:30 a.m.-5 p.m. | USDA headquarters, in the Jamie L. Whitten Building, Room 104-A, 12th Street, SW. and Jefferson Drive, Washington, DC 2050.
October 12, 2010 | 8:30 a.m.-5 p.m. | USDA headquarters, in the Jamie L. Whitten Building, Room 104-A, 12th Street, SW. and Jefferson Drive, Washington, DC 20250.
October 13, 2010 | 8:30 a.m.-5 p.m. | USDA headquarters, in the South Building, Room 3074, 12th Street, SW. and Independence Avenue, Washington, DC 20250.

The purpose of the meetings is to:

• Discuss farm milk price volatility and dairy farmer profitability;

• Review various industry proposals and analysis; and

• Allow comments from the public.

Instructions for Attending the Meeting

Space for attendance at the meeting is limited. Due to USDA headquarters security and space requirements, all persons wishing to attend the public meetings or provide oral comments to the Dairy Committee during the public meetings must send an e-mail to DIAC@wdc.usda.gov by September 21, 2010, for the September meeting and by October 8, 2010, for the October meeting to register the names of those planning to attend. Public seating will be extremely limited on October 13, 2010, due to a change in meeting room. Registrations will be accepted until maximum room capacity is reached. Upon arrival at the USDA Whitten or South Buildings, registered persons must provide valid photo identification in order to enter the building. Additional information about the public meetings, meeting agendas, materials and minutes including directions and how to provide comments is available at the Dairy Committee Web site: http://www.fsa.usda.gov/DIAC.

The received comments will be distributed to Dairy Committee members for consideration at the meetings.

If you require special accommodations, such as a sign language interpreter, please use the contact information above.

Notice of these meetings is provided in accordance with section 10(a)(2) of the Federal Advisory Committee Act, as amended, (5 U.S.C. Appendix 2).

Signed in Washington, DC, on August 27, 2010.
Jonathan W. Coppess,
Administrator, Farm Service Agency.

[FR Doc. 2010-22013 Filed 9-2-10; 8:45 am]

BILLING CODE 3410-05-P